NUCLEAR REGULATORY COMMISSION

10 CFR Parts 50 and 52

[NRC-2008-0332, NRC-2012-0041, NRC-2012-0042, NRC-2012-0043]

RIN 3150-AH42

Performance-Based Emergency Core Cooling Systems Cladding Acceptance Criteria

AGENCY: Nuclear Regulatory Commission.

ACTION: Proposed rule; extension of comment period.

SUMMARY: On March 24, 2014, the U.S. Nuclear Regulatory Commission (NRC) published for public comment a proposed rule revising the acceptance criteria for the emergency core cooling system (ECCS) for light-water nuclear power reactors. The NRC is also seeking public comment on three draft regulatory guides that would support the implementation of the proposed rule. The public comment period for the proposed rule and associated draft guidance was to have ended on June 9, 2014. The public comment period for information collection aspects of this rule was to have ended on April 23, 2014. Due to requests from members of the public, the NRC has extended the comment periods for the proposed rule, the associated draft guidance, and the information collection aspects until August 21, 2014.

DATES: The comment periods for the proposed rule, the associated draft guidance, and the information collection aspects (79 FR 16106; March 24, 2014) have been extended and now end on August 21, 2014.

ADDRESSES: Proposed rule. You may submit comments by any of the following methods. Please include Docket ID NRC-2008-0332 in the subject line of your comment.

• Federal rulemaking Web site: Go to http://www.regulations.gov and search for Docket ID NRC-2008-0332. Address questions about NRC dockets to Carol Gallagher; telephone: 301-287-3422; email: Carol.Gallagher@nrc.gov. For technical questions, contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland, 20852, between 7:30 a.m. and 4:15 p.m. (Eastern Time) Federal workdays; telephone: 301-415-1677.

Draft Regulatory Guides. There are three draft regulatory guides (DGs) related to the proposed rule: (1) DG-1261, “Conducting Periodic Testing for Breakaway Oxidation Behavior;” (2) DG-1262, “Testing for Post Quench Ductility;” and (3) DG-1263, “Establishing Analytical Limits for Zirconium Based Alloy Cladding.” You may submit comments on the DGs by any of the following methods:

• Federal rulemaking Web site: Go to http://www.regulations.gov and search for Docket IDs NRC-2012-0041, NRC-2012-0042, and NRC-2012-0043, respectively.

• Mail comments to: Cindy Bladey, Chief, Rules, Announcements, and Directives Branch, Office of Administration, Mail Stop: 3WFN-06-44M, U.S. Nuclear Regulatory Commission, Washington, DC 20555-0001.

Information Collections. You may submit comments on the information collections contained in the proposed rule to the FOIA, Privacy, and Information Collections Branch (T-5 F53), U.S. Nuclear Regulatory Commission, Washington, DC 20555-0001, or by email to INFOCOLLECTS.RESOURCE@NRC.GOV and to the Desk Officer, Danielle Jones, Office of Information and Regulatory Affairs, NEOB-10202, (3150-0011), Office of Management and Budget, Washington, DC 20503. Comments can also be emailed to Danielle_Y_Jones@omb.eop.gov or submitted by telephone at 202-395-1741. Please note that the OMB desk officer information has changed from that provided in the March 24, 2014, proposed rule.

For additional direction on accessing information and submitting comments, see “Accessing Information and Submitting Comments” in the SUPPLEMENTARY INFORMATION section of this document.

FOR FURTHER INFORMATION CONTACT: Tara Inverso, Office of Nuclear Reactor Regulation, U.S. Nuclear Regulatory Commission, Washington, DC 20555-0001, telephone: 301-415-1024, email: Tara.Inverso@nrc.gov, or Paul M. Clifford, Office of Nuclear Reactor Regulation, U.S. Nuclear Regulatory Commission, Washington, DC 20555-0001, telephone: 301-415-4043, email: Paul.Clifford@nrc.gov.

SUPPLEMENTARY INFORMATION:

I. Accessing Information and Submitting Comments

A. Accessing Information

Please refer to Docket ID NRC-2008-0332 when contacting the NRC about the availability of information for the proposed rule. You may access publicly-available information related to the proposed rule by any of the following methods:

• Federal Rulemaking Web site: Go to http://www.regulations.gov and search for Docket ID NRC-2008-0332.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession numbers for the three DGs related to the proposed rule are: (1) ML12284A324 (DG-1261, “Conducting Periodic Testing for Breakaway Oxidation Behavior”); (2) ML12284A325 (DG-1262, “Testing for Post Quench Ductility”); and (3) ML12284A323 (DG-1263, “Establishing Analytical Limits for Zirconium Based Alloy Cladding”).

• NRC's PDR: You may examine and purchase copies of public documents at the NRC's PDR, Room O1-F21, One White Flint North, 11555 Rockville Pike, Rockville, Maryland 20852.

B. Submitting Comments

The NRC cautions you not to include identifying or contact information that you do not want to be publicly disclosed in your comment submission. The NRC will post all comment submissions at http://www.regulations.gov as well as enter the comment submissions into ADAMS and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On March 24, 2014, the NRC published a proposed rule revising the acceptance criteria for the ECCS for light-water nuclear power reactors (79 FR 16106). The proposed ECCS acceptance criteria are performance-based, and reflect recent research findings that identified new embrittlement mechanisms for fuel rods with zirconium alloy cladding under loss-of-coolant accident conditions. The proposed rule also addresses two petitions for rulemaking by establishing requirements applicable to all fuel types and cladding materials, and requiring the consideration of crud, oxide deposits, and hydrogen content in zirconium-based alloy fuel cladding. Further, the proposed rule contains a provision that would allow licensees to use an alternative risk-informed approach to evaluate the effects of debris for long-term cooling. The NRC is also seeking public comment on three draft regulatory guides that would support the implementation of the proposed rule.

The public comment period for the proposed rule and associated draft guidance was to have ended on June 9, 2014. The public comment period for information collection aspects of this rule was to have ended on April 23, 2014. Due to requests from members of the public, the NRC has extended the comment periods for the proposed rule, the associated draft guidance, and the information collection aspects until August 21, 2014.

Dated at Rockville, Maryland, this 16th day of April 2014.
For the Nuclear Regulatory Commission.
Annette Vietti-Cook,
Secretary of the Commission.

[FR Doc. 2014-09159 Filed 4-21-14; 8:45 am]

BILLING CODE 7590-01-P